DEPARTMENT OF HEALTH AND HUMAN SERVICES

National Institutes of Health

Clinical Center; Amended Notice of Meeting

Notice is hereby given of a change in the meeting of the Board of Governors of the Warren Grant Magnuson Clinical Center, September 19, 2003, 9 a.m. to September 19, 2003, 12 p.m., National Institutes of Health, Building 10, 10 Center Drive, Medical Board Room 2C116, Bethesda, MD 20892 which was published in the Federal Register on September 11, 2003, FR68, 176-53614.

The meeting will be held October 10, 2003 from 9 a.m. to 12 p.m. The meeting is open to the public.

Dated: October 8, 2003.
LaVerne Y. Stringfield,
Director, Office of Federal Advisory Committee Policy.

[FR Doc. 03-26146 Filed 10-15-03; 8:45 am]

BILLING CODE 4140-01-M